DEPARTMENT OF TRANSPORTATION

Federal Aviation Administration

14 CFR Part 39

[Docket No. FAA-2008-0788; Directorate Identifier 2008-CE-039-AD]

RIN 2120-AA64

Airworthiness Directives; DG Flugzeugbau GmbH Model DG-500MB Gliders

AGENCY: Federal Aviation Administration (FAA), DOT.

ACTION: Notice of proposed rulemaking; correction.

SUMMARY: This document makes a correction to a proposed airworthiness directive (AD), which was published in the Federal Register on July 3, 2008 (73 FR 38160), and applies to certain Stemme GmbH & Co. KG (Stemme) Model S10-VT powered sailplanes. This document proposed to require replacement of the single ear clamps in the fuel system with improved design parts. The FAA incorrectly referenced the docket number of this proposed AD as “FAA-2008-0685” instead of “FAA-2008-0788.” This document corrects the docket number.

DATES: The comment period ending date of August 4, 2008, remains the same. The FAA will also address any comments relating to this proposed AD submitted to Docket No. FAA-2008-0685.

FOR FURTHER INFORMATION CONTACT: Greg Davison, Glider Program Manager, FAA, Small Airplane Directorate, 901 Locust, Room 301, Kansas City, Missouri 64106; telephone: (816) 329-4130; fax: (816) 329-4090.

SUPPLEMENTARY INFORMATION:

Discussion

On June 27, 2008, the FAA issued a notice of proposed rulemaking (NPRM) to require replacement of the single ear clamps in the fuel system with improved design parts. This NPRM was published in the Federal Register on July 3, 2008 (73 FR 38160). The FAA incorrectly referenced the docket number of this proposed AD as “FAA-2008-0685” instead of “FAA-2008-0788.” This document corrects the docket number.

Need for the Correction

This correction is needed to assure that all correspondence related to this subject is posted in the correct docket.

Correction of Publication

Accordingly, the publication of July 3, 2008 (73 FR 38160), which was the subject of FR Doc. E8-15177, is corrected as follows:

On page 38160, in the first column, in the third line under the heading DEPARTMENT OF TRANSPORTATION, replace “FAA-2008-0685” with “FAA-2008-0788.”

On page 38160, in the third column, in the third line, replace “FAA-2008-0685” with “FAA-2008-0788.”

§ 39.13 [Corrected]

On page 38161, in the second column, in the fifth and sixth lines under the heading § 39.13 [Amended], replace “FAA-2008-0685” with “FAA-2008-0788.”

Action is taken herein to correct this reference in the proposed AD.

The comment period ending date of August 4, 2008, remains the same. The FAA will also address any comments relating to this proposed AD submitted to Docket No. FAA-2008-0685.

Issued in Kansas City, Missouri, on July 23, 2008.
John R. Colomy,
Acting Manager, Small Airplane Directorate, Aircraft Certification Service.

[FR Doc. E8-17369 Filed 7-28-08; 8:45 am]

BILLING CODE 4910-13-P